DEPARTMENT OF STATE

[Public Notice 8261]

Culturally Significant Objects Imported for Exhibition Determinations: “Hans Richter: Encounters”

ACTION: Notice, correction.

SUMMARY: On March 12, 2013, notice was published on page 15802 of the Federal Register (volume 78, number 48) of determinations made by the Department of State pertaining to the exhibit “Hans Richter: Encounters.” The referenced notice is corrected to accommodate an additional object to be included in the exhibition. Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000 (and, as appropriate, Delegation of Authority No. 257 of April 15, 2003), I hereby determine that the additional object to be included in the exhibition “Hans Richter: Encounters,” imported from abroad for temporary exhibition within the United States, is of cultural significance. The additional object is imported pursuant to a loan agreement with the foreign owner or custodian. I also determine that the exhibition or display of the additional exhibit object at The Los Angeles County Museum of Art in Los Angeles, California from on or about May 5, 2013, until on or about September 2, 2013, and at possible additional exhibitions or venues yet to be determined, is in the national interest. I have ordered that Public Notice of these Determinations be published in the Federal Register.

FOR FURTHER INFORMATION CONTACT: For further information, including a list of the exhibit objects that includes this additional object, contact Ona M. Hahs, Attorney-Adviser, Office of the Legal Adviser, U.S. Department of State (telephone: 202-632-6473). The mailing address is U.S. Department of State, SA-5, L/PD, Fifth Floor (Suite 5H03), Washington, DC 20522-0505.

Dated: March 21, 2013.
Adam Ereli,
Principal Deputy Assistant Secretary, Bureau of Educational and Cultural Affairs, Department of State.

[FR Doc. 2013-07256 Filed 3-27-13; 8:45 am]

BILLING CODE 4710-05-P